OFFICE OF THE UNITED STATES TRADE REPRESENTATIVE

Extension of Deadline for the Submission of Requests (Anniversary) for Exclusion of Particular Products From Actions With Regard to Certain Steel Products Under Section 203 of the Trade Act of 1974, as Established in Presidential Proclamation 7529 of March 5, 2002

AGENCY: Office of the United States Trade Representative.

ACTION: Extension of deadline for submission of comments and responses.

SUMMARY: The United States Trade Representative (USTR) is extending the deadline for the submission of requests for the exclusion of certain steel products (exclusion requests) from the safeguard measures established by Presidential Proclamation 7529 of March 5, 2002.

DATES: The deadline for the submission of exclusion requests is being extended to December 10, 2002. The deadlines for public comments expressing objections to the exclusion of certain products will be announced on the USTR web site.

FOR FURTHER INFORMATION CONTACT: Please send inquiries regarding the exclusion process by e-mail simultaneously to: <exclusion_support@ita.doc.gov > and <FR001@ustr.gov> You may also contact the Office of Industry, Office of the United States Trade Representative, 600 17th Street, NW, Room 501, Washington DC, 20508. Telephone (202) 395-5656.

SUPPLEMENTARY INFORMATION: On November 19, 2002, the USTR published in the Federal Register a notice establishing a deadline for the submission of exclusion requests and modifying certain procedures for the consideration of exclusion requests by USTR and the Department of Commerce. See 67 FR 69802 (“Notice”). According to the Notice, the deadline for the submission of exclusion requests is December 3, 2002. The USTR is extending the deadline for submitting exclusion requests until not later than December 10, 2002. Interested persons should refer to the Notice for instructions for the submission of exclusion requests.

Peter Davidson,
General Counsel, Office of the United States Trade Representative.

[FR Doc. 02-30426 Filed 11-29-02; 8:45 am]

BILLING CODE 3190-01-P